ENVIRONMENTAL PROTECTION AGENCY

[EPA-HQ-OPPT-2015-0506; FRL-9940-47]

Certain New Chemicals; Receipt and Status Information for November 2015

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from November 2, 2015 to November 30, 2015.

DATES: Comments identified by the specific case number provided in this document, must be received on or before February 11, 2016.

ADDRESSES: Submit your comments, identified by docket identification (ID) number EPA-HQ-OPPT-2015-0506, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD, 7407M, Office of Pollution Prevention and Toxics, Environmental Protection Agency, 1200 Pennsylvania Ave., NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from November 2, 2015 to November 30, 2015, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 54 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From November 2, 2015 to November 30, 2015
Case No. | Date received | Projected end date for EPA review | Manufacturer/ Importer | Use(s) | Chemical identity
P-16-0049 | 11/23/2015 | 2/21/2016 | CBI | (S) Foam stabilizer and rheology modifier in dishwashing and car washing detergents | (G) High oleic algae oil ethoxylate.
P-16-0050 | 11/23/2015 | 2/21/2016 | CBI | (S) Foam stabilizer and rheology modifier in dishwashing and car washing detergents | (G) High lauric algae oil ethoxylate S2014.
P-16-0051 | 11/23/2015 | 2/21/2016 | CBI | (S) Foam stabilizer and rheology modifier in dishwashing and car washing detergents | (G) High lauric algae oil ethoxylate S5223.
P-16-0052 | 11/2/2015 | 1/31/2016 | CBI | (G) Printing ink | (G) Polyamid resin.
P-16-0053 | 11/2/2015 | 1/31/2016 | CBI | (G) Printing ink applications | (G) Acrylated polycarbonate polyol.
P-16-0055 | 11/3/2015 | 2/1/2016 | Henkel Corporation | (S) Accruable component in adhesive and Sealant formulations | (S) 1,3-Butadiene, homopolymer, hydrogenated, 2-hydroxyethyl-terminated, bis[N-[3-(trimethoxysilyl)propyl]carbamates].
P-16-0056 | 11/2/2015 | 1/31/2016 | CBI | (G) Oil production | (G) Dialkylamino alkylamide salt.
P-16-0057 | 11/2/2015 | 1/31/2016 | CBI | (G) Oil production | (G) Dialkylamino alkylamide salt.
P-16-0058 | 11/3/2015 | 2/1/2016 | CBI | (S) Chemical intermediate | (G) Beta amino fatty ester.
P-16-0059 | 11/3/2015 | 2/1/2016 | CBI | (S) Chemical intermediate | (G) Dialkylamino alkylamide.
P-16-0060 | 11/3/2015 | 2/1/2016 | CBI | (S) Chemical intermediate | (G) Beta amino ester derivative.
P-16-0061 | 11/3/2015 | 2/1/2016 | CBI | (G) Friction reducer | (G) Acrylamide-substituted ammonium chloride polymer.
P-16-0062 | 11/3/2015 | 2/1/2016 | Colonial Chemical, Inc. | (S) Viscosity control in hard surface cleaners | (S) Tetradecanoic acid, compd. with 1,1'-iminobis[2-propanol] (1:1) (9Cl).
P-16-0065 | 11/3/2015 | 2/1/2016 | CBI | (G) Component of electrocoat | (G) Propanoic acid, polyhydroxyalkyl-, compds. with aminoalkanol-quaternized bisphenol A-(aminoalkanol-blocked aromatic polyisocyanate-polyether polymer)-epichlorohydrin polymer carboxylate salts.
P-16-0066 | 11/3/2015 | 2/1/2016 | CBI | (G) Component of electrocoat | (G) Propanoic acid, polyhydroxyalkyl-, compds. with aminoalkanol-quaternized bisphenol A-(aminoalkanol-blocked aromatic polyisocyanate-polyether polymer)-epichlorohydrin polymer carboxylate salts.
P-16-0067 | 11/3/2015 | 2/1/2016 | CBI | (G) Component of electrocoat | (G) Propanoic acid, polyhydroxyalkyl-, compds. with aminoalkanol-quaternized bisphenol A-(aminoalkanol-blocked aromatic polyisocyanate-polyether polymer)-epichlorohydrin polymer inorganic salts.
P-16-0063 | 11/3/2015 | 2/1/2016 | CBI | (G) Component of electrocoat | (G) Propanoic acid, polyhydroxyalkyl-, compds. with aminoalkanol-quaternized bisphenol A-(aminoalkanol-blocked aromatic polyisocyanate-polyether polymer)-epichlorohydrin polymer.
P-16-0064 | 11/3/2015 | 2/1/2016 | CBI | (G) Component of electrocoat | (G) Propanoic acid, polyhydroxyalkyl-, compds. with aminoalkanol-quaternized bisphenol A-(aminoalkanol-blocked aromatic polyisocyanate-polyether polymer)-epichlorohydrin polymer carboxylate salts.
P-16-0068 | 11/3/2015 | 2/1/2016 | CBI | (S) Chemical intermediate | (G) Dialkylamino alkylamide.
P-16-0069 | 11/3/2015 | 2/1/2016 | CBI | (G) Fuel use | (G) Glycerides, C14-18, C16-18 unsaturated, from fermentation.
P-16-0070 | 11/5/2015 | 2/3/2016 | 3M Company | (S) Emergency shutdown coolant in boiling water reactors | (S) Boron sodium oxide (B5NaO8), labeled with boron-10.
P-16-0071 | 11/5/2015 | 2/3/2016 | CBI | (G) Fabric treatment | (G) Fluorinated polyurethane emulsion.
P-16-0072 | 11/5/2015 | 2/3/2016 | CBI | (G) Temperature resistant coating | (G) Phenyl methyl siloxane resin.
P-16-0073 | 11/5/2015 | 2/3/2016 | CBI | (G) Coating additive | (G) Styrene-acrylate polymer.
P-16-0074 | 11/6/2015 | 2/4/2016 | CBI | (G) Adhesive for open non-descriptive use | (G) Isocyanate terminated polyurethane.
P-16-0075 | 11/6/2015 | 2/4/2016 | Fritz Industries, Inc. | (S) Oil field additive | (S) Poly[oxy(methyl-1,2-ethanediyl)], alpha-[2-(bis(phosphonomethyl)amino]methylethyl]-omega-[2-[bis(phosphonomethyl)amino]methylethoxy]-, sodium salt (1:4).
P-16-0076 | 11/6/2015 | 2/4/2016 | Itaconix Corp. | (S) Chelant in detergents | (G) Itaconic acid copolymer.
P-16-0077 | 11/6/2015 | 2/4/2016 | CBI | (S) Use per FFDCA: Food/flavors, cosmetics, fragrance uses, scented papers detergents, candles, etc. | (S) 5-Octenoic acid, methyl ester, (5Z)-.
P-16-0078 | 11/6/2015 | 2/4/2016 | CBI | (G) Organic light-emitting diode material | (G) Amine-alkyl-polyaromatic hydrocarbon polymer.
P-16-0079 | 11/10/2015 | 2/8/2016 | CBI | (G) Coating resin for organic electrophotographic photoconduct | (G) Polyarylate.
P-16-0085 | 11/10/2015 | 2/8/2016 | CBI | (G) Emulsifier | (G) Poly alkylimidazoline.
P-16-0081 | 11/10/2015 | 2/8/2016 | CBI | (G) Emulsifier | (G) Poly alkylimidazoline.
P-16-0082 | 11/10/2015 | 2/8/2016 | CBI | (G) Emulsifier | (G) Poly alkylimidazoline.
P-16-0080 | 11/10/2015 | 2/8/2016 | CBI | (G) Emulsifier | (G) Poly alkylimidazoline.
P-16-0084 | 11/10/2015 | 2/8/2016 | CBI | (G) Emulsifier | (G) Poly alkylimidazoline.
P-16-0083 | 11/10/2015 | 2/8/2016 | CBI | (G) Emulsifier | (G) Poly alklyimidazoline.
P-16-0086 | 11/11/2015 | 2/9/2016 | CBI | (G) Coating component | (G) Mixed metal oxide-halide complex.
P-16-0087 | 11/11/2015 | 2/9/2016 | CBI | (G) Anti-static agent for thermoplastic resin | (G) Dicarboxylic acid, polymer with aminoalkanoic acid and polyether polyol.
P-16-0088 | 11/12/2015 | 2/10/2016 | Shin Etsu Silicones of America | (G) The composition including the new chemical substance hardens by heating | (G) Fluorined organopolysiloxane.
P-16-0091 | 11/12/2015 | 2/10/2016 | Lawter | (S) Printing ink resin-litho/offset printing | (S) Rosin, polymer with dicyclopentadiene, glycerol, maleic anhydride, pentaerythritol, soybean oil and 1-tetradecene.
P-16-0092 | 11/13/2015 | 2/11/2016 | CBI | (G) Industrial coatings, open non-dispersive use | (G) Polymeric polyamine.
P-16-0093 | 11/13/2015 | 2/11/2016 | CBI | (G) Ingredients for consumer products dispersive use | (S) 2-Cyclohexen-1-one, 2-methyl-5-propyl-.
P-16-0094 | 11/13/2015 | 2/11/2016 | Shin Etsu Silicones of America | (S) Stain-proof coating agent for touch panel | (G) Perfluoropolyether modified organosilane.
P-16-0095 | 11/16/2015 | 2/14/2016 | CBI | (G) Flame retardant additive | (G) Phenol-formaldehyde resin.
P-16-0097 | 11/16/2015 | 2/14/2016 | CBI | (G) Polymer for coatings | (G) Amine salted polyurethane.
P-16-0096 | 11/16/2015 | 2/14/2016 | CBI | (G) Polymer for coatings | (G) Amine salted polyurethane.
P-16-0098 | 11/18/2015 | 2/16/2016 | Univation Technologies, LLC | (S) Catalyst for polyethylene polymerization | (G) Compound of Silica gel, metal alkyls, and chromium.
P-16-0099 | 11/20/2015 | 2/18/2016 | CBI | (G) Aquerous coatings | (G) Polyethylene glycol polymer with aliphatic polycarbodiimide, Bis(alkoxysilylpropyl) amine blocked.
P-16-0100 | 11/20/2015 | 2/18/2016 | CBI | (G) Component of coatings | (G) Substituted heteropolycyclic derivs.
P-16-0101 | 11/20/2015 | 2/18/2016 | CBI | (G) Material for highly dispersive use in consumer products | (G) disubstituted alkanal.
P-16-0102 | 11/21/2015 | 2/19/2016 | CBI | (G) Coating component | (G) Polyester acrylate.
P-16-0104 | 11/24/2015 | 2/22/2016 | CBI | (S) Intermediate for pesticide manufacturer | (S) 2-Pyridinecarboxylic acid, 4,5-dichloro-6-(4-chloro-2-fluoro-3-methoxyphenyl.
P-16-0105 | 11/24/2015 | 2/22/2016 | CBI | (G) Fertilizer component | (G) Alkyl polyol salt.
P-16-0106 | 11/30/2015 | 2/28/2016 | CBI | (G) Bonding agent | (G) 1,3-Diazetidine-2,4-dione, 1,3-bis [(isocyanatophenyl)methyl] phenyl]-, polymer with 2-(chloromethyl)oxirane and 4,4'-(1-methylethylidene)bis[phenol], alkoxypropanol-blocked.

For the six TMEs received by EPA during this period, Table 2 provides the following information (to the extent that such information is not claimed as CBI): The EPA case number assigned to the TME, the date the TME was received by EPA, the projected end date for EPA's review of the TME, the submitting manufacturer/importer, the potential uses identified by the manufacturer/importer in the TME, and the chemical identity.

Table 2—TMEs Received From November 2, 2015 to November 30, 2015
Case No. | Date received | Projected end date for EPA review | Manufacturer/ Importer | Use(s) | Chemical identity
T-16-0001 | 11/2/2015 | 12/17/2015 | CBI | (G) Oil Production | (G) Dialkylamino alkylamide salt.
T-16-0002 | 11/2/2015 | 12/17/2015 | CBI | (G) Oil Production | (G) Dialkylamino alkylamide salt.
T-16-0003 | 11/3/2015 | 12/18/2015 | CBI | (S) Chemical Intermediate | (G) Beta amino fatty ester.
T-16-0004 | 11/3/2015 | 12/18/2015 | CBI | (S) Chemical Intermediate | (G) Dialkylamino alkylamide.
T-16-0005 | 11/3/2015 | 12/18/2015 | CBI | (S) Chemical Intermediate | (G) Beta amino ester derivative.
T-16-0006 | 11/3/2015 | 12/18/2015 | CBI | (S) Chemical Intermediate | (G) Dialkylamino alkylamide.

For the 32 NOCs received by EPA during this period, Table 3 provides the following information (to the extent that such information is not claimed as CBI): The EPA case number assigned to the NOC; the date the NOC was received by EPA; the projected date of commencement provided by the submitter in the NOC; and the chemical identity.

Table 3—NOCs Received From November 2, 2015 to November 30, 2015
Case No. | Received date | Commencement date | Chemical
P-97-0141 | 11/17/2015 | 10/22/2015 | (G) Acrylate polymer.
P-04-0313 | 11/10/2015 | 10/14/2015 | (G) Aminoraizie modified cresol novolac resin.
P-06-0142 | 11/6/2015 | 11/4/2015 | (S) Castor oil, polymer with ethylenediamine, 1,6-hexanediol, .alpha.-hydro-.omega.-hydroxypoly(oxy-1,4-butanediyl), 3-hydroxy-2-(hydroxymethyl)-2-methylpropanoic acid, 1,1'-methylenebis[4-isocyanatocyclohexane] and soybean oil, compd. with triethylamine.
P-08-0167 | 11/20/2015 | 11/9/2015 | (S) Butanedioic acid, polymer with 1,4-butanediol.
P-12-0169 | 11/18/2015 | 10/28/2015 | (G) Fluoro-modified acrylic copolymer.
P-13-0931 | 11/11/2015 | 10/28/2015 | (S) 2-propenoic acid, 4-phenoxybutyl ester.
P-14-0105 | 11/20/2015 | 11/10/2015 | (G) Methylene diisocyanate polymer with diols and triols.
P-14-0142 | 11/23/2015 | 9/23/2015 | (G) Formaldehyde polymer with modified phenol and amine, alkoxylated.
P-14-0480 | 11/2/2015 | 10/7/2015 | (G) Carboxlic acid polymer with isocyanate,diols and acid,alc and amine blocked.
P-14-0581 | 11/11/2015 | 10/23/2015 | (G) Alkyl alkylphosphinate.
P-14-0623 | 11/2/2015 | 5/11/2015 | (G) Aliphatic polyester.
P-15-0139 | 11/16/2015 | 10/26/2015 | (S) D-glucitol, 1-deoxy-1-(methylamino)-, n-c8-10 acyl derivs.
P-15-0269 | 11/3/2015 | 10/27/2015 | (G) Substituted carbomonocycle, (alkylidene)bis-,polymer with haloalkyl heteromonocycle and alkylidene)bis(substituted carbomonocycle)]- bis[heteromonocycle], reaction products with carbon dioxide.
P-15-0272 | 11/19/2015 | 11/11/2015 | (G) Formaldehyde, reaction products with aniline and aromatic mono- and di-phenol mixture.
P-15-0292 | 11/13/2015 | 10/22/2015 | (G) Butanedioic acid, polymer with substituted-acrylamide, styrene, and acrylates.
P-15-0306 | 11/2/2015 | 9/26/2015 | (S) Phenol, 1, 1-dimethylpropyl derivs;
P-15-0319 | 11/19/2015 | 11/18/2015 | (G) Butanedioic acid, 2-methylene-, alkyl ester.
P-15-0324 | 11/19/2015 | 11/18/2015 | (G) Magnesium alkaryl sulfonate.
P-15-0505 | 11/3/2015 | 10/4/2015 | (S) Hexanedioic acid, polymer with 1,4-cyclohexanedimethanol, dimethyl carbonate, 2,2-dimethyl-1,3-propanediol, 2- ethyl-2-(hydroxymethyl)-1,3-propanediol, hexahydro-1,3-isobenzofurandione, 1,6-hexanediol, 3-hydroxy-2- (hydroxymethyl)-2-methylpropanoic acid and 5-isocyanato-1-(isocyanatomethyl)-1,3,3-trimethylcyclohexane, compound with 2-(dimethylamino)ethanol.
P-15-0530 | 11/19/2015 | 11/17/2015 | (G) Alkoxylated fatty alcohol citrate.
P-15-0531 | 11/4/2015 | 10/27/2015 | (G) Siloxanes and silicones, di-Me ethers with polyalkylene glycol monoallyl ether.
P-15-0541 | 11/3/2015 | 10/13/2015 | (S) Hexanedioic acid, polymer with 1,6-diisocyanatohexane, 2,2-dimethyl-1,3-propanediol, 1,6-hexanediol and 5- isocyanato-1-(isocyanatomethyl)-1,3,3-trimethylcyclohexane.
P-15-0571 | 11/11/2015 | 10/15/2015 | (G) Potassium salt of organic acid.
P-15-0572 | 11/11/2015 | 10/15/2015 | (G) Mixed salts of organic acid.
P-15-0603 | 11/18/2015 | 10/22/2015 | (S) Ethanesulfonyl fluoride, 1,1,2,2-tetrafluoro-2-[(1,2,2-trifluoroethenyl)oxy]-, polymer with 1,1,2,2-tetrafluoroethene, hydrolyzed, lithium salts.
P-15-0621 | 11/25/2015 | 11/16/2015 | (G) Aromatic polyester.
P-15-0655 | 11/30/2015 | 11/23/2015 | (G) 2-Ethylhexanoic acid, compound with alkylamino cyclohexane 2-Ethylhexanoic acid, compound with cyclohexylamine.
P-15-0670 | 11/18/2015 | 11/12/2015 | (S) 1,2-Ethanediamine, n1,n2-bis(2-aminoethyl)-, acetate (1:4).
P-15-0670 | 11/18/2015 | 11/12/2015 | (S) 1,2-Ethanediamine, n1-(2-aminoethyl)-, acetate (1:3).
P-15-0670 | 11/18/2015 | 11/12/2015 | (S) 1,6-Hexanediamine, acetate (1:2).
P-15-0670 | 11/18/2015 | 11/12/2015 | (S) Ethanol, 2-[(2-aminoethyl)amino]-, acetate (1:2).
P-15-0670 | 11/18/2015 | 11/12/2015 | (S) 1,2-Cyclohexanediamine, acetate (1:2).

Authority: 15 U.S.C. 2601 et seq.

Dated: January 5, 2016.
Pamela Myrick,
Acting, Information Management Division, Office of Pollution Prevention and Toxics.

[FR Doc. 2016-00433 Filed 1-11-16; 8:45 am]

BILLING CODE 6560-50-P